DEPARTMENT OF JUSTICE

[OMB Number 1121-0346]

Agency Information Collection Activities; Proposed eCollection eComments Requested; Reinstatement, With Change, of a Previously Approved Collection for Which Approval Has Expired: 2022 Census of State and Local Law Enforcement Agencies (CSLLEA)

AGENCY: Bureau of Justice Statistics, Department of Justice.

ACTION: 30-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for an additional 30 days until July 8, 2022.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether, and if so, how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Reinstatement, with change, of a previously approved collection for which approval has expired.

2. Title of the Form/Collection: 2022 Census of State and Local Law Enforcement Agencies (CSLLEA)

3. Agency form number, if any, and the applicable component of the Department of Justice sponsoring the collection: The form number is CJ-38. The applicable component within the Department of Justice is the Bureau of Justice Statistics (BJS), in the Office of Justice Programs.

4. Affected public who will be asked or required to respond, as well as a brief abstract: Respondents will include all publicly funded State, county, and local law enforcement agencies in the United States that employ the equivalent of at least one full-time sworn officer with general arrest powers. Both general purpose agencies (i.e., any public agency with sworn officers whose patrol and enforcement responsibilities are primarily delimited by the boundaries of a municipal, county, or State Government) and special purpose agencies (e.g., campus law enforcement, transportation, natural resources, etc.) meeting the above description will be asked to respond.

Abstract: BJS has conducted the CSLLEA regularly since 1992. The 2022 CSLLEA will be the eighth administration. Historically, the CSLLEA generates an enumeration of all publicly funded State, county, and local law enforcement agencies operating in the United States. The CSLLEA provides complete personnel counts and an overview of the functions performed for approximately 20,000 law enforcement agencies operating nationally. The survey asks about the level of government that operates the agency; oversight of any agency sub-components; total operating budget; full-time and part-time personnel counts for sworn, limited sworn, and non-sworn employees; sex of full-time sworn, limited sworn, and non-sworn personnel; race and Hispanic origin of full-time sworn officers; and the functions the agency performs on a regular or primary basis. Upon completion, the 2022 CSLLEA will serve as the sampling frame for future law enforcement surveys administered by BJS.

5. An estimate of the total number of respondents and the amount of time estimated for an average respondent to respond: BJS estimates a maximum of 20,000 State, county, and local law enforcement agencies with a respondent burden of about 32 minutes per agency to complete the survey form and about 15 minutes per agency of follow-up time. A random sample of 1,000 agencies will be selected to receive a pre-notification letter to inform the agency head of the upcoming survey and provide an opportunity to update the agency's contact information, which is estimated to add 2 minutes per sampled agency.

6. An estimate of the total public burden (in hours) associated with the collection: There are an estimated 15,700 total burden hours associated with this information collection.

If additional information is required contact: Melody Braswell, Department Clearance Officer, United States Department of Justice, Justice Management Division, Policy and Planning Staff, Two Constitution Square, 145 N Street NE, 3E.405A, Washington, DC 20530.

Dated: June 3, 2022.
Melody Braswell,
Department Clearance Officer for PRA, U.S. Department of Justice.

[FR Doc. 2022-12347 Filed 6-7-22; 8:45 am]

BILLING CODE 4410-18-P